DEPARTMENT OF HEALTH AND HUMAN SERVICES

Office of the Secretary

[OS-0990-OWH-NEW-CSS]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: National Women's Health Information Center (NWHIC) Customer Satisfaction Questionnaire.

Form/OMB No.: OS-0990-OWH-NEW-CSS.

Use: The OWH plans to send a customer satisfaction questionnaire to users of NWHIC who have called the 1-800 number. Since its launch in 1998, NWHIC's toll-free number and services have not been evaluated to determine how well it has been fulfilling its goals. The survey is intended to assess the effectiveness of OWH in disseminating information through NWHIC. A random sample of 1,556 NWHIC users (with consent) will be mailed a survey and follow-up letter.

Frequency: One Time.

Affected Public: Individuals.

Annual Number of Respondents: 1,245.

Total Annual Responses: 1,245.

Average Burden Per Response: 9 minutes.

Total Annual Hours: 144.

To obtain copies of the supporting statement and any related forms for the proposed paperwork collections referenced above, E-mail your request, including your address, phone number, OS document identifier, to John.Burke@hhs.gov, or call the Reports Clearance Office on (202) 690-8356. Written comments and recommendations for the proposed information collections must be mailed within 60 days of this notice directly to the OS Paperwork Clearance Officer designated at the following address:

Department of Health and Human Services, Office of the Secretary, Assistant Secretary for Budget, Technology, and Finance, Office of Information and Resource Management, Attention: John Burke (0990-OWH-NEW-CSS), Room 531-H, 200 Independence Avenue, SW., Washington DC 20201.

Dated: March 28, 2003.
John P. Burke, III,
Office of the Secretary, Paperwork Reduction Act Reports Clearance Officer.

[FR Doc. 03-8300 Filed 4-4-03; 8:45 am]

BILLING CODE 4150-33-P